DEPARTMENT OF LABOR

Employment and Training Administration

[TA-W-56,030]

Arista Beaver Brook Circuits Bethel, CT; Dismissal of Application for Reconsideration

Pursuant to 29 CFR 90.18(C) an application for administrative reconsideration was filed with the Director of the Division of Trade Adjustment Assistance for workers at Arista Beaver Brook Circuits, Bethel, Connecticut. The application contained no new substantial information which would bear importantly on the Department's determination. Therefore, dismissal of the application was issued.

TA-W-56,030; Arista Beaver Brook Circuits, Bethel, Connecticut (February 2, 2005)

Signed at Washington, DC this 16th day of February 2005.
Linda G. Poole,
Acting Director, Division of Trade Adjustment Assistance.

[FR Doc. E5-985 Filed 3-8-05; 8:45 am]

BILLING CODE 4510-30-P